DEPARTMENT OF THE INTERIOR

National Park Service

Notice of Meeting of Concessions Management Advisory Board

AGENCY: National Park Service, Interior.

ACTION: Notice of meeting of Concessions Management Advisory Board.

SUMMARY: In accordance with the Federal Advisory Committee Act (Pub. L. 92-463, 86 Stat. 770, 5 U.S.C. App 1, section 10), notice is hereby given that the Concessions Management Advisory Board (the Board) will hold its 14th meeting on August 25, 2005, at Grand Teton National Park, Moose, Wyoming. The meeting will be held at the Jackson Lake Lodge in Grand Teton National Park. The meeting will convene at 8:30 a.m. and will conclude at 4:30 p.m.

SUPPLEMENTARY INFORMATION: The Board was established by Title IV, Section 409 of the National Park Omnibus Management Act of 1998, November 13, 1998 (Public Law 105-391). The purpose of the Board is to advise the Secretary and the National Park Service on matters relating to management of concessions in the National Park System. The Board will meet at 8:30 a.m. for the regular business meeting for continued discussion on the following subjects:

• Contracting Program; Prospectus Development Contractors

• Standards, Evaluations and Rate Approval Program

• Annual Financial Report

• Leasehold Surrender Interest

• Public Law 105-391

• Regional Concessions Chiefs Update

The meeting will be open to the public, however, facilities and space for accommodating members of the public are limited, and persons will be accommodated on a first-come-first-served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it. Anyone may file with the Board a written statement concerning matters to be discussed. The Board may also permit attendees to address the Board, but may restrict the length of the presentations, as necessary to allow the Board to complete its agenda within the allotted time. Such requests should be made to the director, National Park Service, Attention: Manager, Concession Program, at least 7 days prior to the meeting.

Further information concerning the meeting may be obtained from National Park Service, Concession Program, 1849 C Street, NW., Washington, DC 20240, Telephone: 202/513-7144. Draft minutes of the meeting will be available for public inspection approximately 6 weeks after the meeting, at the Concession Program office located at 1201 Eye Street, NW., 11th Floor, Washington, DC.

Dated: July 18, 2005.
Fran P. Mainella,
Director, National Park Service.

[FR Doc. 05-15356 Filed 8-2-05; 8:45 am]

BILLING CODE 4312-53-M